DEPARTMENT OF TRANSPORTATION

Federal Aviation Administration

14 CFR Part 73

[Docket No. FAA-2015-0739; Airspace Docket No. 14-AWP-11]

Modification of Restricted Area R-7201; Farallon De Medinilla Island, Mariana Islands

AGENCY: Federal Aviation Administration (FAA), DOT.

ACTION: Final rule.

SUMMARY: This action expands the restricted airspace at Farallon De Medinilla Island, Mariana Islands, by designating a new area, R-7201A, that surrounds the existing R-7201. R-7201A encompasses that airspace between a 3 nautical mile (NM) radius and a 12-NM radius of lat. 16°01′04″ N., long. 146°03′31″ E. The new restricted airspace provides the required airspace to conduct military training scenarios using air-to-ground ordnance delivery, naval gunfire, lasers and special operations training.

DATES: Effective date 0901 UTC, June 22, 2017.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies special use airspace to support military training and readiness requirements.

History

On August 25, 2015, the FAA published in the Federal Register a notice proposing to expand the lateral boundaries of restricted area R-7201, and redesignate the area as R-7201A (80 FR 51498), Docket No. FAA-2015-0739. Interested parties were invited to participate in this rulemaking effort by submitting written comments on the proposal. No comments were received.

Differences From the NPRM

The NPRM proposed to expand the lateral boundary of restricted area R-7201, which consists of that airspace within a 3-NM radius of lat. 16°01′04″ N., long. 146°03′31″ E., from the current 3-NM to 12-NM radius and rename the restricted area R-7201A.

Subsequently, the FAA decided to retain R-7201, with its 3-NM radius, and designate a new restricted area to surround R-7201, naming the new restricted area R-7201A. R-7201A contains that airspace from a 3-NM radius, out to a 12-NM radius of the same center point. This configuration allows for the activation of either R-7201 or R-7201A alone, or to activate them both simultaneously. The flexibility enables more efficient use of airspace by allowing the using agency to activate only that amount of restricted airspace required for the particular mission to be conducted. The configuration proposed in the NPRM would have resulted in all airspace within a 12-NM radius of the above point being activated even for those missions that would only require a 3-NM radius. Therefore, the FAA determined it is in the public interest to retain R-7201 and establish R-7210A, as described herein, to facilitate the real-time release of airspace when the full 12-NM radius is not required by the user.

Additionally, the using agency name for R-7201 is updated from “Commander, Naval Forces, Marianas,” to “Commander, Joint Region Marianas.” This reflects the current organizational title and matches the using agency for R-7201A.

The Rule

The FAA is amending 14 CFR part 73 by expanding the restricted airspace at Farallon De Medinilla Island, Mariana Islands. This action designates a new restricted area, R-7201A, consisting of the airspace between a 3-NM radius and a 12-NM radius of lat. 16°01′04″ N., long. 146°03′31″ E. It extends from the surface to FL 600. The time of designation is “By NOTAM, 12 hours in advance.” R-7201A surrounds the existing restricted area, R-7201. R-7201 continues to consist of the airspace within a 3-NM radius of the above point.

This change will accommodate Department of the Navy training involving the use of advanced weapons systems which the current R-7201A airspace does not sufficiently and safely provide. The new restricted airspace also enables the using agency to activate only that amount of restricted airspace needed for the particular mission.

In addition, the using agency name for R-7201 is updated to reflect the current organizational title as described above.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this proposed rule, when promulgated, does not have a significant economic impact on a substantial number of small entities under the criteria of the Regulatory Flexibility Act.

Environmental Review

The FAA conducted an independent written re-evaluation and adoption of the Department of the Navy's Final Environmental Assessment (EA)/Overseas Environmental Assessment (OEA) for the Establishment of Mariana Islands Range Complex (MIRC) airspace, dated June 13, 2013 (hereinafter “the FEA/OEA”), for which the FAA was a cooperating agency, and which included the environmental analysis of the establishment of Restricted Area R-7201A at Farallon De Medinilla Island, Marianas Islands, to support the Navy's MIRC airspace requirements. Based on its environmental review, the FAA has determined that the action that is the subject of this rule does not present the potential for significant impacts to the human environment. The FAA's “Written Re-evaluation, Adoption of the EA, Finding of No Significant Impact and Record of Decision (FONSI-ROD),” dated January 26, 2017, is included in the docket for this rulemaking. The FEA/OEA is available at www.MIRCairspaceEA.com.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(f), 106(g), 40103, 40113, 40120; E.O. 10854, 24 FR 9565, 3 CFR, 1959-1963 Comp., p. 389.

§ 73.72 [Amended]

2. § 73.72 is amended as follows:

R-7201 Farallon De Medinilla Island, Mariana Islands [Amended]

By removing “Using agency. Commander, Naval Forces, Marianas,” and adding in its place “Using agency. Commander, Joint Region, Marianas.”

R-7201A Farallon De Medinilla Island, Mariana Islands [New]

Boundaries. That airspace between a 3 NM radius and a 12 NM radius of lat. 16°01′04″ N., long. 146°03′31″ E.

Designated altitudes. Surface to FL 600.

Time of designation. By NOTAM 12 hours in advance.

Controlling agency. FAA, Guam CERAP.

Using agency. Commander, Joint Region Marianas.

Issued in Washington, DC, on March 7, 2017.
Gemechu Gelgelu,
Acting Manager, Airspace Policy Group.

[FR Doc. 2017-04892 Filed 3-10-17; 8:45 am]

BILLING CODE 4910-13-P